ENVIRONMENTAL PROTECTION AGENCY

[OAR-2003-0052, FRL-7920-7]

Agency Information Collection Activities: Proposed Collection; Comment Request; Risk Management Program Requirements and Petitions To Modify the List of Regulated Substances Under Section 112(r) of the Clean Air Act, EPA ICR Number 1656.12, OMB Control Number 2050-0144

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on October 31, 2005. Before submitting the ICR to OMB for review and approval, EPA is soliciting comments on specific aspects of the proposed information collection as described below.

DATES: Comments must be submitted on or before August 1, 2005.

ADDRESSES: Submit your comments, referencing docket ID number OAR-2003-0052, to EPA online using EDOCKET (our preferred method), by email to a-and-r-Docket@epa.gov, or by mail to: EPA Docket Center, Environmental Protection Agency, Mail Code 6102T, Air Docket, 1200 Pennsylvania Ave., NW., Washington, DC 20460.

FOR FURTHER INFORMATION CONTACT: Sicy Jacob, Mail Code 5104A, Environmental Protection Agency, 1200 Pennsylvania Ave., NW., Washington, DC 20460; telephone number: (202) 564-8019; fax number: (202) 564-2625; email address: jacob.sicy@epa.gov,

SUPPLEMENTARY INFORMATION: EPA has established a public docket for this ICR under Docket ID number OAR-2003-0052, which is available for public viewing at the Air Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are chemical manufacturers, petroleum refineries, water treatment systems, non-chemical manufacturers, etc.

Title: Risk Management Program Requirements and Petitions To Modify the List of Regulated Substances under section 112(r) of the Clean Air Act.

Abstract: The 1990 CAA Amendments added section 112(r) to provide for the prevention and mitigation of accidental releases. Section 112(r) mandates that EPA promulgate a list of “regulated substances,” with threshold quantities and establish procedures for the addition and deletion of substances from the list of “regulated substances.” Processes at stationary sources that contain a threshold quantity of a regulated substance are subject to accidental release prevention regulations promulgated under CAA section 112(r)(7). These two rules are codified as 40 CFR part 68. Part 68 requires that sources with more than a threshold quantity of a regulated substance in a process develop and implement a risk management program and submit a risk management plan to EPA. The compliance schedule for the part 68 requirements was established by rule on June 20, 1996. Burden to sources that are currently covered by part 68, for initial rule compliance, including rule familiarization and program implementation were accounted for in ICR 1656.03. Sources submitted their first RMPs on June 21, 1999. The next compliance deadline was June 21, 2004, five years after the first submission. Some of the sources revised and submitted their RMPs between the mandatory deadlines. These sources were then assigned a five-year compliance deadline based on the date of their revised plan submission. The next submission of RMPs for all sources is by June 21, 2009. The period covered by this ICR is between the two mandatory deadlines (2004 and 2009). Therefore, in this ICR, EPA has accounted for only on-going program implementation costs for all sources that are currently covered by part 68 requirements, compliance costs for new sources that may become subject to the regulations, and burden for sources that re-submit RMP before the next compliance deadline.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The public reporting burden will depend upon the regulatory program tier into which sources are categorized. The number of sources regulated by 40 CFR part 68 is approximately 15,305. As explained above, because of the schedule for certain activities established in part 68, some burden and costs do not routinely occur in the three-year time period covered by this ICR. For example, most sources will not have to revise their RMPs or update their process hazard analyses, hazard reviews and offsite consequence analysis until the next reporting deadline, June 2009. Therefore, in this ICR, EPA has accounted for only on-going program implementation costs, rule familiarization and program implementation costs for new sources that may become subject to the regulations, and re-submission costs for few of the sources that have already submitted RMPs.

In 2003, EPA received RMPs from 332 new sources in various sectors. EPA assumes that there will be 332 new sources that may become subject to the regulations during the period covered by this ICR. These sources may need to become familiar with the regulations, develop prevention programs and prepare and submit RMPs. EPA estimates that the burden to become familiar with the regulations and to submit a RMP range from 10 to 40 hours for the various sectors covered by the regulations. The unit burden for prevention program documentation for new sources range from 70 to 95 hours for sources in various sectors. The total annual burden for new facilities to become familiar with the regulations, develop prevention program documentation and prepare and submit RMPs is 23,200 hours at a cost of $796,250 dollars (69,600 hours at a cost of $2,388,750 dollars for three years).

During the two reporting years, June 1999 and 2004, EPA received about 34 Confidential Business Information (CBI) claims. EPA assumes that there maybe 34 claims submitted annually during the period covered by this ICR from any new sources that may become subject to the regulations. The estimated unit burden for developing and submitting CBI is 9.5 hours. The total annual burden for CBI claims is 323 hours at a cost of $14,670 dollars (970 hours at a cost of $44,010 for three years).

Based on the number of revised RMPs received recently, EPA assumes that about 1,050 sources may submit revised RMPs annually during the period covered by this ICR. Some of the sources may only need to revise a section of the RMP that they already submitted. The estimated total annual burden for these sources submitting revised RMPs within the period covered by this ICR is 13,300 hours at a cost of $434,794 dollars (39,900 hours at a cost of $1,304,382 dollars for three years).

Sources that have already submitted RMPs (15,305) are required to maintain documentation and update certain elements in their risk management plan. Some of the sources are covered by the Occupational Safety and Health Act (OSHA) Process Safety Management (PSM) regulations, and are already required to do some of the requirements. The total annual estimated burden for on-site documentation for non-PSM sources is 57,095 hours at a cost of $2,024,754 dollars (173,502 hours at a cost of $6,074,262 dollars for three years).

During the period covered by this ICR, there will be 15 states that have obtained delegation to implement the program. The total annual burden estimated for 15 states is 6,160 hours at a cost of $221,000 dollars (18,480 hours at a cost of $663,000 for three years).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 26, 2005.
Dana S. Tulis,
Acting Director, Office of Emergency Management.

[FR Doc. 05-10996 Filed 6-1-05; 8:45 am]

BILLING CODE 6560-50-P